DEPARTMENT OF THE INTERIOR

Bureau of Land Management

[CO-200-1220-EA]

Extension of Special Rule Regarding Operation of Motorized Vehicle Designation

AGENCY: Bureau of Land Management, Interior.

ACTION: Notice of two year extension.

SUMMARY: Public notice is hereby given that implementation of a Special Rule regarding the operation of motorized vehicle designations within the Texas Creek, Penrose, Grand Canyon Hills, and Sand Gulch areas will remain in effect and is extended for two years. The change in vehicle designation for these areas became effective May 22, 2001 (66 FR 28198). These four areas, totaling 16,355 acres, will remain in the “limited to existing roads and trails” designation until interdisciplinary planning with all affected interests occurs to determine the appropriate designated travel routes in these areas. Interdisciplinary planning is currently underway for the Penrose area and planning will begin for the other three areas in 2003. The BLM has determined that it is necessary for the current designation of “limited to existing roads and trails” to remain in affect in order to prevent unacceptable impacts to public lands and to provide management consistency to these areas while planning efforts are underway.

DATES: The extension of this Special Rule goes into effect with the publication of this notice and shall remain in effect for two years. At the end of the two year period it may be reviewed and extended, or revoked.

ADDRESSES: You may obtain additional information by any of several methods. You may mail, hand deliver, or call in your requests to: Field Manager, Bureau of Land Management, Royal Gorge Field Office, 3170 East Main Street, Canon City, CO 81212, (719) 269-8500. You may also make requests via e-mail to: rgfo_comments@blm.gov.

FOR FURTHER INFORMATION CONTACT: Roy L. Masinton, Field Manager or Diana Kossnar, Outdoor Recreation Planner, at the address and phone number listed above, or John Nahomenuk, Outdoor Recreation Planner, 307 W. Sackett Ave., Salida, CO 81201, 719-539-7289.

SUPPLEMENTARY INFORMATION: The Special Rule provision of 43 CFR 8341.2 allows the authorized officer to close certain areas to specific types of OHV use. In the case of the Texas Creek, Penrose, Grand Canyon Hills, and Sand Gulch OHV “Open” areas, the authorized officer closed these areas to all forms of OHV use that goes off of existing travel routes. This changed the OHV designation for the areas to “limited to existing roads and trails”, the same designation that is found on the surrounding public lands. The Special Rule was implemented to prevent a continuation of unacceptable impacts to soils, vegetation, wildlife, and wildlife habitat. The Royal Gorge Field Office will follow implementation of this Special Rule with amendments to the Royal Gorge Resource Management Plan. The plan amendments will be completed with full public involvement, interagency coordination and consultation as required by the BLM planning regulations (43 CFR part 1600).

This Special Rule does not apply to emergency, law enforcement, and federal or other government vehicles while being used for official or emergency purposes, or to any vehicle whose use is expressly authorized or otherwise officially approved by BLM. Violation of this order is punishable by fines and/or imprisonment as defined in 18 U.S.C. 3571. Notice of this Special Rule and detailed maps of the four affected areas are posted at the Royal Gorge Field Office in Canon City and the Arkansas Headwaters Recreation Area Office in Salida.

John L. Carochi,
Associate Field Manager.

[FR Doc. 02-12912 Filed 5-22-02; 8:45 am]

BILLING CODE 4310-JB-P